DEPARTMENT OF TRANSPORTATION

National Highway Traffic Safety Administration

[Docket No. NHTSA-2021-0027]

Agency Information Collection Activities; Notice and Request for Comment; National 911 Profile Database

AGENCY: National Highway Traffic Safety Administration (NHTSA), Department of Transportation (DOT).

ACTION: Notice and request for comments on a request for extension of a currently-approved information collection.

SUMMARY: The National Highway Traffic Safety Administration (NHTSA) invites public comments about our intention to request approval from the Office of Management and Budget (OMB) for an extension of a currently-approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on the National 911 Profile Database.

DATES: Comments must be submitted on or before June 18, 2021.

ADDRESSES: You may submit comments identified by the Docket No. NHTSA-_-_ through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Ms. Laurie Flaherty, Coordinator, National 911 Program, Office of Emergency Medical Services, National Highway Traffic Safety Administration, US Department of Transportation, 1200 New Jersey Avenue SE, NPD-400, Room W44-322, Washington, DC 20590. Ms. Flaherty's phone number is (202) 366-2705 and her email address is laurie.flaherty@dot.gov. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: National 911 Profile Database.

OMB Control Number: 2127-0679.

Type of Request: Request for extension of a currently-approved information collection.

Type of Review Requested: Regular

Requested Expiration Date of Approval: 3 years from date of approval.

Summary of the Collection of Information: The National 911 Program is housed within NHTSA's Office of Emergency Medical Services, which has a mission to provide coordination in assessing, planning, developing, and promoting comprehensive, evidence-based emergency medical services and 911 systems. Pursuant to 47 U.S.C. 942, Coordination of 911, E911, and Next Generation 911 implementation, the National 911 Program exists to coordinate 911 efforts, collect and create resources for State and local 911 agencies, and to oversee a grant program, specifically to upgrade the nation's outdated 911 infrastructure.

NHTSA is requesting an extension of its information collection, carried out under 47 U.S.C. 942 (a)(3)(B), to continue to collect and aggregate information from State-level reporting entities that can be used to measure the progress of 911 authorities across the country in upgrading and enhancing their existing operations and migrating to more advanced—digital, internet-Protocol-enabled—emergency networks. The data will be maintained in a “National 911 Profile Database.” The National 911 Profile Database maintains State-specific and benchmarking data, which is later analyzed by the 911 Program for trends and findings. Collecting and sharing nationwide 911 statistics helps the 911 community better understand the state of the industry. The National 911 Profile Database enables voluntary submission of data by State and territorial 911 agencies via annual data submission. The information to be collected includes data useful for evaluating the status of 911 programs across the country, along with their progress in implementing upgraded and advanced systems and capabilities. The data elements involved will fall within two major categories: Baseline and progress benchmarks.

• “Baseline” data elements reflect the current status and nature of 911 operations from State to State. These elements are largely descriptive in nature, are intended to provide a general view of existing 911 services across the country, and are grouped within five categories: Total 911 Calls and Call Type, Number of Public Safety Answering Points (PSAPs) and Equipment Positions, Emergency Medical Dispatch and Operations, Call-Handling Quality Assurance, and Minimum Training Requirements.

• “Progress benchmarks” reflect the status of State efforts to implement advanced next generation 911 systems and capabilities. As titled, these data elements are largely implementation or deployment benchmarks against which progress can be measured, and include: Planning, Procurement, Transition, Operations, and Maturity Level.

Description of the Need for the Information and Proposed Use of the Information

To support NHTSA's mission to save lives, the National 911 Program develops, collects, and disseminates information concerning practices, procedures, and technology used in the provision of 911 services; and to support 911 Public Safety Answering Points (PSAPs) and related State and local public safety agencies' 911 technological and operational upgrades.

The technology impacting 911 services continues to evolve substantially. Both public and private sectors have increasingly focused on addressing the need to upgrade and enhance the technology utilized by 911 services across the Nation. In addition, it is essential that emergency responders are able to coordinate and collaborate with 911 agencies via comprehensive and seamless emergency communication systems as they update their own part of the emergency communications network. This information collection supports efforts to upgrade 911 services by providing up-to-date information to State and local public safety entities to allow them to adequately gauge progress towards implementing more current and advanced 911 systems in a comparative fashion. While the National 911 Program will benefit from this information, it is anticipated that the greatest benefit will accrue to the State and local public safety community faced with the challenge of migrating to the next generation of 911 services and technology as they strive to respond to emergencies.

The National 911 Profile Database is used to follow the progress of 911 authorities in enhancing their existing systems and implementing next-generation networks to more current functionality. The data in this national profile has been used and will continue to be used to accurately measure and depict the current status and capabilities of 911 systems across the United States, as well as progress made in implementing advanced technologies and operations—known as Next Generation (NG) 911. Assessments, based upon the data collected, will help draw attention to key roadblocks as well as solutions in NG911 implementation processes. Analysis of the data will also help target possible future activities and resources consistent with the goals of the program. The information collected will be available in aggregated form to national, Federal, State and local stakeholders in the public safety community. This information collection supports NHTSA's mission to save lives, prevent injuries and reduce economic costs due to road traffic crashes by ensuring emergency responses to crashes of all nature (e.g. planes, trains, and automobiles) and maximizing the chances of survival for crash victims.

Affected Public: State 911 agency administrators.

Estimated Number of Respondents: Maximum number of responses: 56.

Frequency: Annual.

Number of Responses: Maximum number of responses: 56.

Estimated Total Annual Burden Hours: NHTSA estimates that submitting responses to the questions included in the proposed survey instrument utilizing the Web-based tool would require an average of 98 hours per State entity to collect, aggregate and submit. Estimating the maximum number of respondents at 56 (the fifty States, the District of Columbia, and five U.S. Territories), this would result in a total burden of 5,488 hours (98 hours × 56 respondents).

The total labor costs associated with the burden hours are estimated by finding the average hourly wage and multiplying by the number of burden hours. Respondents will be State, territory, and tribal government management personnel. To estimate reasonable staff expenses to respond to this information collection, the Agencies reviewed the Bureau of Labor Statistics (BLS) Occupational Outlook Handbook and determined that the Administrative Services Manager description closely aligns with the positions of recipient staff responsible for completing this request. BLS lists the average hourly wage as $46.45.¹ Further, BLS estimates that State and local government wages represent 61.8% of total labor compensation costs.² Therefore, NHTSA estimates the hourly labor costs to be $75.16 (46.45 ÷ 0.618). The total labor cost based on the estimated burden hours is estimated at $412,478. The table below provides a summary of the estimated burden hours and the labor costs associated with those burden hours.

¹ May 2019 National Occupational Employment and Wage Estimates by ownership, Federal, State, and local government, including government-owned schools and hospitals and the U.S. Postal Service, at https://www.bls.gov/oes/current/999001.htm#11-0000 (BLS code 11-3010).

² Table 1 at https://www.bls.gov/news.release/ecec.t01.htm.

Number of respondents | Annual hours per respondent | Average hourly compensation | Estimated annual labor cost per respondent | Total estimated annual burden hours | Total estimated annual labor costs
56 | 98 | 75.16 | $7,365.68 | 5,488 | $412,478.08 or $412,478

Estimated Total Annual Burden Cost: There are no capital, start-up, or annual operation and maintenance costs involved in the collection of information. The respondents would not incur any reporting costs from the information collection beyond the labor costs associated with the burden hours to gather the information, prepare it for reporting and then populate the Web-based data collection tool. The respondents also would not incur any recordkeeping burden or recordkeeping costs from the information collection.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Issued in Washington, DC
Nanda Narayanan Srinivasan,
Associate Administrator, Research and Program Development.

[FR Doc. 2021-08003 Filed 4-16-21; 8:45 am]

BILLING CODE 4910-59-P